FEDERAL COMMUNICATIONS COMMISSION

47 CFR Part 73

[DA 01-1480; MM Docket No. 99-2157; RM-9337, RM-9892]

Radio Broadcasting Services; Alamo Community, NM

AGENCY: Federal Communications Commission.

ACTION: Final rule.

SUMMARY: At the request of Alamo Navajo School Board, Inc., this document allots Channel 298A* Alamo Community, New Mexico. As proposed, this allotment is reserved for noncommercial educational use. The reference coordinates for the Channel 298A* allotment at Alamo Community, New Mexico, are 34-25-01 and 107-30-04. See 65 FR 55930, published September 15, 2000.

DATES: Effective August 7, 2001.

FOR FURTHER INFORMATION CONTACT: Robert Hayne, Mass Media Bureau (202) 418-2177

SUPPLEMENTARY INFORMATION: This is a synopsis of the Commission's Report and Order in MM Docket No. 00-158, adopted June 20, 2000, and released June 22, 2001. The full text of this decision is available for inspection and copying during normal business hours in the FCC's Reference Information Center at Portals II, CY-A257, 445 12th Street, SW, Washington, DC. The complete text of this decision may also be purchased from the Commission's copy contractor, International Transcription Service, Inc., (202) 857-3800, 1231 20th Street, NW., Washington, DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under New Mexico, is amended by adding Alamo Community, Channel 298A*.

Federal Communications Commission.
John A. Karousos,
Chief, Allocations Branch, Policy and Rules Division, Mass Media Bureau.

[FR Doc. 01-16794 Filed 7-3-01; 8:45 am]

BILLING CODE 6712-01-U